FEDERAL MARITIME COMMISSION

Ocean Transportation Intermediary License Applicants

Notice is hereby given that the following applicants have filed with the Federal Maritime Commission an application for license as a Non-Vessel—Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel—Operating Common Carrier Ocean Transportation Intermediary Applicants

Landmark Freight, Inc., 11404 Gettysburg Drive, Suite #19, Norwalk, CA 90650. Officer: Shin Kim, CEO, (Qualifying Individual).

Marichal Net Shipping LLC, 7491 NW., 72 Ave., Medley, FL 33166. Officer:Juan Marichal, Manager, (Qualifying Individual).

HI Trading International Corp., dba HI Transport International, 7770 Garvey Ave., Rosemead, CA 91770. Officers: Haipei Liu, Vice President, (Qualifying Individual), Jacky Li, Secretary.

PNBRCI Holding Company, Ltd dba PNB Cargo Services, 3345 Wilshire Blvd., Suite #230, Los Angeles, CA 90010. Officers: Reynaldo E. Yoro, Asst. Vice President, (Qualifying Individual), Rommel R. Garcia, Director.

Oceanwind International, Inc. dba OWI dba The Broadwell Group, 27905 Pontevedra Drive, Rancho Palos Verdes, CA 90275. Officers: Daniel Benoit, President, (Qualifying Individual), Tami Ballentine-Benoit, Director.

Warehouse Logistics, Inc., 16037 E. Foothill Blvd., Irwindale, CA 91702-2813. Officers: Barry Wing Cheung Hung, Secretary, (Qualifying Individual), Eric (Wai Man) Tang, Director.

SS-World Enterprise Inc. dba Smooth Shipping, 305 NW., 24th Street, Grand Prairie, TX 75050. Officers: Syed S. Rabi-UL-Hassan, Vice President, (Qualifying Individual), Mohammad Shakil, President.

Trans Atlantic Freight Company, LLC, 221 Park Avenue, East Hartford, CT 06108. Officers: Daniel J. Carstens, Dir. of Shipping, (Qualifying Individual), Guillermo Herrera, Member President.

Grand Power Express International (USA) Corp., 901 West Hillcrest Street, Inglewood, CA 90301. Officers: Ju-Ching, Sung, President, (Qualifying Individual), Jing Robert Sung, Secretary.

Alto Container Line, Inc., 2867 Surveyor Street, Pomona, CA 91768. Officers: Jack Huang, President, (Qualifying Individual), Al Garcia CFO.

FCL Carrier.com (U.S.) LLC, 2147 South Columbus Boulevard, Philadelphia, PA 19148. Officers: Richard P. Moore, Vice President, (Qualifying Individual), Antonius Plompen, CEO.

ASW America LLC, 730 Del Ord Drive, Safety Harbor, FL 34695. Officer: Carlos F. Diaz, Member/Manager, (Qualifying Individual).

B2B Logistics Group, Inc. dba B2Bcarriers, 383 Van Ness Ave., Suite 1604, Torrance, CA 90501. Officers: Christine S. Kim, Secretary, (Qualifying Individual), James Yung Choh, President.

Non-Vessel—Operating Common Carrier and Ocean Freight Forwarder Transportation Intermediary Applicants

Inter Custom Logistics LLC dba Inter Custom Logistics, 8133 NW., 69th Street, Miami, FL 33166. Officers: Gladys Pardo, President, (Qualifying Individual), Robert A. Roubitchek, Director.

Solusco Worldwide, Inc. dba SGL Worldwide Inc., 1221 Landmeier Road, Elk Grove Village, IL 60007. Officers: Kyoon Hyon, Vice President, (Qualifying Individual), Simon I. Kim, President.

Pride Global Logistics LL,C 1221 Landmeier Road, Suite 209, Elk Grove Village, IL 60007. Officer: David Michael Shake, President, (Qualifying Individual).

Polaris Logistics Corp., 21 Langerfeld Road, Hillsdale, NJ 07642. Officers: Moon H. You, President, (Qualifying Individual), Han J. Song, Treasurer.

Dynamic Worldwide Logistics, Inc., 125 Pennsylvania Avenue, South Kearny, NJ 07032. Officers: Martin J. Kelly, III, Vice President, (Qualifying Individual), Thomas C. Gambino, President.

Ocean Freight Forwarder—Ocean Transportation Intermediary Applicants

J & L Export, 101 Ashford Circle, Summerville, SC 29485. Joeanne W. Leake, Sole Proprietor.

Hart Worldwide Logistics, Inc., 2360 NW., 66th Avenue—Cargo Bldg. 701, Suite 207, Miami, FL 33122. Officers: Laurence E. Hart, Jr., President, (Qualifying Individual), Evelyn Schwab, Vice President.

UpakWeShip, Inc., 10610 Iron Bridge Road, Unit 6, Jessup, MD 20794. Officers: Alison Elizabeth Kane, President, (Qualifying Individual), Mark Nash, Vice President.

GABI Investments & Management Corporation, dba Universal Cargo Services, 1240 E. Vine Avenue, West Covina, CA 91790. Officers: Carlito Magnaye Gabi, President, (Qualifying Individual), Richard Gabi, Vice President.

ASBCO Container Services Inc., 12900 Hall Road, Suite 455, Sterling Heights, MI 48313. Officer: Donald Finnerty, CEO, (Qualifying Individual).

Dated: March 2, 2007.
Bryant L. VanBrakle,
Secretary.

[FR Doc. E7-4102 Filed 3-7-07; 8:45 am]

BILLING CODE 6730-01-P